DEPARTMENT OF ENERGY

Federal Energy Regulatory Commission

[Docket No. RP02-504-000]

Iroquois Gas Transmission System, L.P.; Notice of Proposed Changes in FERC Gas Tariff

August 27, 2002.

Take notice that on August 20, 2002, Iroquois Gas Transmission System, L.P. (Iroquois) tendered for filing as part of its FERC Gas Tariff, First Revised Volume No. 1, the following tariff sheets, proposed to become effective September 20, 2002:

Third Revised Sheet No. 10

Original Sheet No. 10A

Original Sheet No. 10B

Original Sheet No. 10C

Sixth Revised Sheet No. 11

Third Revised Sheet No. 11A

Fifth Revised Sheet No. 11B

Second Revised Sheet No. 66A

Fourth Revised Sheet No. 67

Iroquois proposes to clarify and modify the provisions of its tariff concerning its customers ability to make changes to their receipt and delivery points. The filing would also provide Iroquois with the ability to reserve existing firm transportation capacity that becomes available for future expansion projects under certain specified circumstances; such capacity may be marketed on an interim basis.

Iroquois states that copies of its filing were served on all jurisdictional customers and interested state regulatory agencies and all parties to the proceeding.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's website at http://www.ferc.gov using the “FERRIS” link. Enter the docket number excluding the last three digits in the docket number field to access the document. For Assistance, call (202)502-8222 or for TTY, (202) 208-1659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-22299 Filed 8-30-02; 8:45 am]

BILLING CODE 6717-01-P